DEPARTMENT OF HOMELAND SECURITY

Coast Guard

46 CFR Part 1

[USCG 2003-15137]

RIN 1625-AA71

Right To Appeal; Director, Great Lakes Pilotage

AGENCY: Coast Guard, DHS.

ACTION: Direct final rule; confirmation of effective date.

SUMMARY: On June 23, 2003, we published a direct final rule that notified the public of the Coast Guard's intent to amend its appellate procedures to provide explicit authority for appeal of decisions or actions taken by the Director, Great Lakes Pilotage. We have not received an adverse comment, or notice of intent to submit an adverse comment, on this rule. Therefore, the rule will go into effect as scheduled.

DATES: The effective date of the direct final rule is confirmed as August 22, 2003.

FOR FURTHER INFORMATION CONTACT: If you have questions on this rule, call Mr. Tom Lawler, Coast Guard, telephone 202-267-1241. If you have questions on viewing the docket, call Andrea M. Jenkins, Program Manager, Docket Operations, Department of Transportation, telephone 202-366-0271.

SUPPLEMENTARY INFORMATION: On June 23, 2003, we published a direct final rule [68 FR 37091] that notified the public of the Coast Guard's intent to amend its appellate procedures to provide explicit authority for appeal of decisions or actions taken by the Director, Great Lakes Pilotage. We have not received an adverse comment, or notice of intent to submit an adverse comment, on this rule. Therefore, the rule will go into effect as scheduled.

Dated: August 21, 2003.
T.H. Gilmour,
Rear Admiral, U.S. Coast Guard, Assistant Commandant for Marine Safety, Security and Environmental Protection.

[FR Doc. 03-21966 Filed 8-26-03; 8:45 am]

BILLING CODE 4910-15-P